DEPARTMENT OF ENERGY

Western Area Power Administration

Post-2009 Resource Pool—Loveland Area Projects—Proposed Power Allocation

AGENCY: Western Area Power Administration, DOE.

ACTION: Notice of Proposed Power Allocation.

SUMMARY: Western Area Power Administration (Western), a Federal power marketing agency of the Department of Energy, announces its Post-2009 Resource Pool—Loveland Area Projects—Proposed Power Allocation developed under the requirements of subpart C—Power Marketing Initiative of the Energy Planning and Management Program (Program) Final Rule, 10 CFR part 905.

Western's Notice of Allocation Procedures and Call for Applications was published in the Federal Register at 73 FR 62981 on October 22, 2008. Applications were accepted at Western's Rocky Mountain Customer Service Region until 4 p.m. MST, December 19, 2008. Review of those applications resulted in this Notice of Proposed Power Allocation.

DATES: The comment period on this Notice of Proposed Power Allocation begins today and ends April 27, 2009. To be assured of consideration, Western must receive all written comments by the end of the comment period. Western will hold a single public comment forum about the Proposed Power Allocation on April 16, 2009, at 1 p.m. MDT; see address below.

ADDRESSES: Send written comments to: Regional Manager, Rocky Mountain Customer Service Region, Western Area Power Administration, 5555 East Crossroads Boulevard, Loveland, CO 80538-8986. Comments may be delivered by certified mail, commercial mail, e-mail POST2009LAP@wapa.gov, or fax 970-461-7204.

Information about the Post-2009 Resource Pool Allocation Procedures, including comments, letters, and other supporting documents, is available for public inspection and copying at the Rocky Mountain Customer Service Region office, Western Area Power Administration, 5555 East Crossroads Boulevard, Loveland, CO 80538-8986.

A single public comment forum (not to exceed 3 hours) on the Proposed Power Allocation will be held on April 16, 2009, at 1 p.m. MDT, at the Ramada Plaza Hotel & Convention Center, 10 East 120th Avenue, Northglenn, CO 80233.

FOR FURTHER INFORMATION CONTACT: Susan Steshyn, Public Utilities Specialist, 970-461-7237, or Melanie Reed, Contracts and Energy Services Manager, 970-461-7229. Written requests for information should be sent to Rocky Mountain Customer Service Region, Western Area Power Administration, Attn: J6200, P.O. Box 3700, Loveland, CO 80539-3003.

SUPPLEMENTARY INFORMATION: Western published the Post-2009 Resource Pool—Loveland Area Projects—Allocation Procedures and Call for Applications (73 FR 62981) on October 22, 2008, to implement subpart C-Power Marketing Initiative of the Program's Final Rule, 10 CFR part 905, published at 60 FR 5415, October 29, 1995. The Program, developed in part to implement section 114 of the Energy Policy Act of 1992, became effective on November 20, 1995. The Program establishes project-specific power resource pools and the allocation of power from these pools to new preference customers. The allocation procedures, in conjunction with the General Power Marketing and Allocation Criteria (51 FR 4012, January 31, 1986), establish the framework for allocating power from the Loveland Area Projects (LAP) resource pool. Only comments relevant to the Proposed Power Allocation will be accepted during the comment period. After considering public comments, Western will publish the Final Power Allocation in the Federal Register.

Written comments on the Proposed Power Allocation must be received at the address above by 4 p.m. MDT on April 27, 2009. Western will respond only to comments received on the Proposed Power Allocation and publish the Final Power Allocation after the end of the comment period.

I. Post-2009 Pool Resources

Western will allocate up to 1 percent (1%) of the LAP long-term hydroelectric resource available as of October 1, 2009. Approximately 6.9 megawatts (MW) of capacity and 11.3 gigawatt-hours (GWh) of energy will be available for the summer season. Winter availability will be approximately 6.1 MW of capacity and 9.1 GWh of energy. This resource pool will be created by reducing existing customers' allocations by up to 1%.

II. Proposed Power Allocation

In response to the call for applications, Western received four applications for the Post-2009 LAP resource pool. The total amount of energy requested by the applicants was 65.6 GWh. The resource pool will be allocated proportionately by season based on average seasonal loads for the period April 2007 through March 2008. The resource pool for capacity will be allocated proportionately by season based on average seasonal demand. The allocations below are subject to the minimum (100 kilowatts) and maximum (5,000 kilowatts) allocation criteria. The proposed allocations for the four qualified allottees are shown in the table below.

Allottees | Proposed post-2009 power allocation: Summer kilowatthours | Proposed post-2009 power allocation: Winter kilowatthours | Proposed post-2009 power allocation: Summer kilowatts | Proposed post-2009 power allocation: Winter kilowatts
City of Arma, KS | 529,330 | 408,687 | 324 | 272
City of Cimarron, KS | 1,142,083 | 1,066,248 | 698 | 709
City of Russell, KS | 7,600,131 | 6,231,356 | 4,645 | 4,141
University of Wyoming | 2,030,893 | 1,399,859 | 1,241 | 931
Total Resource Pool | 11,302,437 | 9,106,150 | 6,908 | 6,053

Allottees must be able to obtain delivery of their allocations. A letter of commitment from each allottee's serving utility or transmission provider confirming that the allottee will receive the benefit of Western's Proposed Power Allocation must be received by May 11, 2009. If a copy of the letter is not received by the date above, Western may redistribute the allottee's portion of the resource pool to those allottees that remain. Western may extend this deadline for receiving a letter of commitment if a written request to do so is received by Western by the deadline.

The proposed allocations shown in the table above are based on the LAP marketable resource currently available. If the LAP marketable resource is adjusted in the future, all allocations may be adjusted accordingly.

III. Review Under the Paperwork Reduction Act

In accordance with the Paperwork Reduction Act of 1980, 44 U.S.C. 3501-3520, Western received approval from the Office of Management and Budget (OMB) to collect the Applicant Profile Data under control number 1910-5136, which was used to develop this Proposed Power Allocation.

IV. Review Under the National Environmental Policy Act

Western completed an environmental impact statement on the Program, pursuant to the National Environmental Policy Act of 1969 (NEPA). The Record of Decision was published in the Federal Register, 60 FR 53181, October 12, 1995. Western will comply with any additional NEPA requirements for this resource pool.

Dated: March 20, 2009.
Timothy J. Meeks,
Administrator.

[FR Doc. E9-6882 Filed 3-26-09; 8:45 am]

BILLING CODE 6450-01-P